DEPARTMENT OF DEFENSE

Department of the Air Force

Air University Board of Visitors; Notice of Meeting

ACTION: Notice of meeting of Air University Board of Visitors.

SUMMARY: The purpose of the meeting is to give the board an opportunity to review Air University educational programs and to present to the Commander, a report of their findings and recommendations concerning these programs. Discussions will include overall university status, degree-granting authority, reaffirmation preparations, and undergraduate education updates.

DATES: The Air University Board of Visitors will hold an open meeting on 16-17 April 2007. The first business session of each meeting will begin in the Air Force Personnel Center Conference Room, Randolph Air Force Base, Texas.

FOR FURTHER INFORMATION CONTACT: Dr. Dorothy Reed, Chief of Academic Affairs, Air University Headquarters, Maxwell Air Force Base, Alabama 36112-6335, at (334) 953-5159.

Bao-Anh Trinh,
Air Force Federal Register Liaison Officer.

[FR Doc. E7-5448 Filed 3-23-07; 8:45 am]

BILLING CODE 5000-04-P